DEPARTMENT OF JUSTICE

Immigration and Naturalization Service

[INS No. 2254-03]

Immigration and Naturalization Service; Meeting of the Data Management Improvement Act of 2000 Task Force

AGENCY: Immigration and Naturalization Service, Justice.

ACTION: Notice of meeting.

Committee meeting: Immigration and Naturalization Service, (INS) Data Management Improvement Act of 2000 (DMIA) Task Force.

Date and Time: Friday, February 21, 2003, 10 a.m. to 1 p.m.

Place: INS Headquarters, 425 I Street, NW., Washington, DC 20536, Shaughnessy Conference Room, Sixth Floor.

Status: Open. Notice is hereby given that the DMIA Task Force will meet on Friday, February 21, 2003, from 10 a.m. to 1 p.m. All times noted are eastern standard time. The meeting will be open to the public.

Purpose: The DMIA Task Force is focusing on issues related to facilitating the flow of traffic at United States ports-of-entry (POEs) while enhancing security and addressing commercial facilitation needs. The Task Force will be discussing facility and infrastructure issues, coordination and cooperation mechanisms, and information and technology issues. Discussion also will take place regarding resource requirements and how to determine those needs in support of POE operations.

Public participation: The meeting is open to the public; however, advance notice of attendance is required to ensure adequate seating and to arrange for appropriate clearance into the building. Persons planning to attend should notify the contact person no less than 5 days prior to the meeting. Members of the public may submit written comments or questions before the meeting to the contact person for consideration by the DMIA Task Force. Only written comments or questions received by the contact person no less than 5 days prior to the meeting will be considered for discussion at the meeting.

Contact person: Michael Defensor or Deborah Hemmes, Immigration and Naturalization Service, 425 I Street, NW., Room 7257, Washington, DC 20536; telephone (202) 305-9863; fax: (202) 305-9871; e-mail: michael.defensor@usdoj.gov or deborah.hemmes@usdoj.gov.

Dated: February 4, 2003.
Michael J. Garcia,
Acting Commissioner, Immigration and Naturalization Service.

[FR Doc. 03-3161 Filed 2-6-03; 8:45 am]

BILLING CODE 4410-10-P